DEPARTMENT OF THE TREASURY

Submission for OMB Review; Comment Request

March 28, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 6, 2002 to be assured of consideration.

Internal Revenue Service (IRS)

OMB Number: 1545-0731.

Regulation Project Number: PS-262-82 Final.

Type of Review: Extension.

Title: Definition of an S Corporation.

Description: The regulations provide the procedures and the statements to be filed by certain individuals for making the election under section 1361(d)(2), the refusal to consent to that election, or the revocation of that election. The statements required to be filed would be used to verify that taxpayers are complying with requirements imposed by Congress under Subchapter S.

Respondents: Business or other for-profit, individuals or households.

Estimated Number of Respondents: 1,005 .

Estimated Burden Hours Per Respondent: 1 hour.

Frequency of Response: Other (Non-recurring).

Estimated Total Reporting Burden: 1,005 hours.

OMB Number: 1545-0854.

Regulation Project Number: LR-1214 Final.

Type of Review: Extension.

Title: Discharge of Liens.

Description: The Internal Revenue Service needs this information to determine if the taxpayer has equity in the property. This information will be used to determine the amount, if any, to which the tax lien attaches.

Respondents: Business or other for-profit, Individuals or households, Farms.

Estimated Number of Respondents: 500.

Estimated Burden Hours Per Respondent: 24 minutes.

Frequency of Response: On occasion.

Estimated Total Reporting Burden: 200 hours.

OMB Number: 1545-1638.

Form Number: IRS Form 12196 (formerly Form 7130-A).

Type of Review: Revision.

Title: Small Business Office Order Blank.

Description: Form 12196 is to be used by small business outlets to order IRS tax forms and publications. The form can be faxed directly to the IRS Area Distribution Center for order fulfillment, packaging and mailing.

Respondents: Business or other for-profit.

Estimated Number of Respondents: 45.

Estimated Burden Hours Per Respondent: 3 minutes.

Frequency of Response: On occasion.

Estimated Total Reporting Burden: 2 hours.

Clearance Officer: Glenn Kirkland, Internal Revenue Service, Room 6411, 1111 Constitution Avenue, NW., Washington, DC 20224.

OMB Reviewer: Alexander T. Hunt, (202) 395-7860, Office of Management and Budget, Room 10202, New Executive Office Building, Washington, DC 20503.

Mary A. Able,
Departmental Reports Management Officer.

[FR Doc. 02-8180 Filed 4-3-02; 8:45 am]

BILLING CODE 4830-01-P